ENVIRONMENTAL PROTECTION AGENCY

[FRL 12104-01-OA]

Farm, Ranch, and Rural Communities Advisory Committee (FRRCC) and Animal Agriculture and Water Quality Subcommittee (AAWQ); Notice of Public Meetings

AGENCY: Environmental Protection Agency (EPA).

ACTION: Notice of meetings.

SUMMARY: Pursuant to the Federal Advisory Committee Act (FACA), notice is hereby given that the next meeting of the Farm, Ranch, and Rural Communities Advisory Committee (FRRCC) will be held in a hybrid setting on Aug 5-6, 2024, at the Lancaster Marriott in Lancaster, PA. The FRRCC provides independent policy advice, information, and recommendations to the Administrator on a range of environmental issues and policies that are of importance to agriculture and rural communities. Pursuant to the Federal Advisory Committee Act (FACA), notice is hereby given that the next meeting of the Animal Agriculture and Water Quality Subcommittee, subcommittee of the Farm, Ranch, and Rural Communities Advisory Committee (FRRCC) will be held in a hybrid setting on Aug 8-9, 2024, at the Lancaster Marriott in Lancaster, PA. The goal of the AAWQ subcommittee is to provide recommendations that will inform the Agency's decisions regarding how to improve the implementation of the Clean Water Act (CWA) National Pollutant Discharge Elimination System (NPDES) Concentrated Animal Feeding Operation (CAFO) permitting program.

DATES: The public meeting of the FRRCC will be held in-person and virtually Monday, August 5, 2024, from approximately 12:00 p.m. to 5:30 p.m. through Tuesday August 6, 2024, from approximately 8:30 a.m. to 5:30 p.m. (EST).

The public meeting of the AAWQ will be held in-person and virtually on Thursday August 8, 2024, from approximately 8:30 a.m. to 5:30 p.m. (EST) through Friday August 9, 2024, from approximately 8:30 a.m. to 2:00 p.m. (EST).

ADDRESSES: Both the FRRCC and the AAWQ meetings will take place in-person at the Lancaster Marriott at Penn Square, 25 South Queen Street, Lancaster, PA 17603. To register to attend in person, virtually and receive information on how to listen to the meeting and to provide comments, please visit: www.epa.gov/faca/frrcc. Attendees must register for each meeting independently.

Virtual Attendance: Virtual attendance will be via Zoom. The link to register for the meeting can be found on the FRRCC web page, www.epa.gov/faca/frrcc.

FOR FURTHER INFORMATION CONTACT: Dr. Venus Welch-White, Designated Federal Officer (DFO), at FRRCC@epa.gov and/or AAWQ@epa.gov or tel. (202) 564-0595. General information regarding the FRRCC and AAWQ can be found on the EPA website at: www.epa.gov/faca/frrcc.

SUPPLEMENTARY INFORMATION: Meetings of the FRRCC are open to the public. An agenda will be posted at www.epa.gov/faca/frrcc.

Access and Accommodations: For information on access or services for individuals with disabilities, please visit: www.epa.gov/faca/frrcc.

Venus Welch-White,
Acting Deputy Director, Office of Agriculture and Rural Affairs, EPA.

[FR Doc. 2024-15740 Filed 7-18-24; 8:45 am]

BILLING CODE 6560-50-P